ENVIRONMENTAL PROTECTION AGENCY

40 CFR Part 180

[EPA-HQ-OPP-2022-0832; FRL-11393-01-OCSPP]

Flonicamid; Pesticide Tolerances

AGENCY: Environmental Protection Agency (EPA).

ACTION: Final rule.

SUMMARY: This regulation establishes tolerances for residues of flonicamid in or on multiple crops listed later in this document. Interregional Research Project Number 4 (IR-4) requested these tolerances under the Federal Food, Drug, and Cosmetic Act (FFDCA).

DATES: This regulation is effective September 20, 2023. Objections and requests for hearings must be received on or before November 20, 2023, and must be filed in accordance with the instructions provided in 40 CFR part 178 (see also Unit I.C. of the SUPPLEMENTARY INFORMATION).

ADDRESSES: The docket for this action, identified by docket identification (ID) number EPA-HQ-OPP-2022-0832, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. Please review the visitor instructions and additional information about the docket available at https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of EPA's tolerance regulations at 40 CFR part 180 through the Office of the Federal Register e-CFR site at https://www.ecfr.gov/current/title-40.

C. How can I file an objection or hearing request?

Under FFDCA section 408(g), 21 U.S.C. 346a(g), any person may file an objection to any aspect of this regulation and may also request a hearing on those objections. You must file your objection or request a hearing on this regulation in accordance with the instructions provided in 40 CFR part 178. To ensure proper receipt by EPA, you must identify docket ID number EPA-HQ-OPP-2022-0832 in the subject line on the first page of your submission. All objections and requests for a hearing must be in writing and must be received by the Hearing Clerk on or before November 20, 2023. Addresses for mail and hand delivery of objections and hearing requests are provided in 40 CFR 178.25(b).

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID number EPA-HQ-OPP-2022-0832, by one of the following methods:

• Federal eRulemaking Portal: https://www.regulations.gov. Follow the online instructions for submitting comments. Do not submit electronically any information you consider to be CBI or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets.

II. Summary of Petitioned-For Tolerances

In the Federal Register of January 3, 2023 (88 FR 38) (FRL-9410-08-OCSPP), EPA issued a document pursuant to FFDCA section 408(d)(3), 21 U.S.C. 346a(d)(3), announcing the filing of a pesticide petition (PP 2E9000) by IR-4, North Carolina State University, 1730 Varsity Drive, Venture IV, Suite 210, Raleigh, NC 27606. The petition requested that 40 CFR part 180 be amended by establishing tolerances for residues of flonicamid in or on the raw agricultural commodities: Bushberry crop subgroup 13-07B at 1.5 ppm; Caneberry crop subgroup 13-07A at 3 ppm; Cherry subgroup 12-12A at 0.6 ppm; Corn, sweet, kernel plus cob with husks removed at 0.4 ppm; Corn, sweet, forage at 9 ppm; Corn, sweet, stover at 20 ppm; Peach crop subgroup 12-12B at 1.5 ppm; Plum subgroup 12-12C at 0.6 ppm; Pomegranate at 0.5 ppm; Prickly pear, fruit at 2 ppm; Prickly pear, pads at 3 ppm; Edible podded bean subgroup 6-22A and Edible podded pea subgroup 6-22B at 4 ppm; Succulent shelled bean subgroup 6-22C and Succulent shelled pea subgroup 6-22D at 7 ppm; and Pulses, dried shelled bean (except soybean) subgroup 6-22E and Pulses, dried shelled pea subgroup 6-22F at 3 ppm.

The petition also requested to remove the following established flonicamid tolerances: Fruit, stone group 12-12, at 0.6 ppm; Pea and bean, dried shelled, except soybean, subgroup 6C at 3.0 ppm; Pea and bean, succulent shelled, subgroup 6B at 7.0 ppm; and Vegetable, legume, edible podded, subgroup 6A at 4.0 ppm.

That document referenced a summary of the petition, which is available in the docket, https://www.regulations.gov. No comments on the tolerance action were received.

III. Aggregate Risk Assessment and Determination of Safety

Section 408(b)(2)(A)(i) of FFDCA allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue. . . . .”

Consistent with FFDCA section 408(b)(2)(D), and the factors specified therein, EPA has reviewed the available scientific data and other relevant information in support of this action. EPA has sufficient data to assess the hazards of and to make a determination on aggregate exposure for flonicamid including exposure resulting from the tolerances established by this action. EPA's assessment of exposures and risks associated with flonicamid follows.

In an effort to streamline its publications in the Federal Register, EPA is not reprinting sections that repeat what has been previously published for tolerance rulemakings for the same pesticide chemical. Where scientific information concerning a particular chemical remains unchanged, the content of those sections would not vary between tolerance rulemakings, and EPA considers referral back to those sections as sufficient to provide an explanation of the information EPA considered in making its safety determination for the new rulemaking.

EPA has previously published tolerance rulemakings as well as a Flonicamid Interim Registration Decision for Registration Review for flonicamid in which EPA concluded, based on the available information, that there is a reasonable certainty that no harm would result from aggregate exposure to flonicamid and established tolerances for residues of that chemical. EPA is incorporating previously published sections from these rulemakings as described further in this rulemaking, as they remain unchanged.

Toxicological profile. The kidney and liver effects are seen via the oral route in rats and dogs. Increased kidney weight and hyaline droplet deposition as well as liver centrilobular hypertrophy were observed in the subchronic, developmental, and reproductive studies in rats. The subchronic dog study showed effects on kidney adrenals and thymus. No dermal or systemic toxicity was seen in the 28-day dermal study at the limit dose (1,000 mg/kg/day). There is no concern for increased susceptibility of developing young or for neurotoxicity or immunotoxicity for flonicamid. Flonicamid is classified by the Agency as “suggestive evidence of carcinogenicity, but not sufficient to assess human carcinogenic potential.” The chronic reference dose (cRfD) approach was used as a quantitation method for cancer risk.

Toxicological points of departure/Levels of concern. For a full summary of the Toxicological points of departure/Levels of concern for flonicamid used for human risk assessment, see “Flonicamid. Human Health Risk Assessment for the Proposed New Uses and Tolerance Establishment in/on Bushberry Subgroup 13-07B, Caneberry Subgroup 13-07A, Cherry Subgroup 12A, Peach Subgroup 12-12B, Plum Subgroup 12C, Pomegranate, Prickly Pear Cactus, Sweet Corn, and Crop Group Conversions/Expansions for Legume Vegetables New Crop Group 6-22A-F” (hereafter the Flonicamid Human Health Review) in docket EPA-HQ-OPP-2022-0832 and the “Flonicamid: Human Health Draft Risk Assessment for Registration Review” by going to docket ID number EPA-HQ-OPP-2014-0777 at https://www.regulations.gov.

Exposure assessment. EPA's dietary exposure assessments have been updated since the previous published rules as well as Registration Review to include the additional exposure from the requested tolerances for residues of flonicamid and were conducted with Dietary Exposure Evaluation Model software using the Food Commodity Intake Database (DEEM-FCID) Version 4.02, which uses the 2005-2010 food consumption data from the United States Department of Agriculture's (USDA's) National Health and Nutrition Examination Survey, What We Eat in America (NHANES/WWEIA). A slightly refined chronic dietary exposure assessment was conducted for all proposed and registered uses of flonicamid. The analysis assumed tolerance level residues for all commodities. Separate tolerances have been established for potato granules/flakes, tomato paste, and tomato puree based on processing studies. The processing factors were set to 1.0 for these commodities. Percent crop treated (PCT) estimates were incorporated where available. Default processing factors were used for the other processed commodities for which default processing factors are available.

Anticipated residues and PCT information. EPA has not relied on anticipated residues in assessing exposures to flonicamid. Section 408(b)(2)(F) of FFDCA states that the Agency may use data on the actual percent of food treated for assessing chronic dietary risk only if:

• Condition a: The data used are reliable and provide a valid basis to show what percentage of the food derived from such crop is likely to contain the pesticide residue.

• Condition b: The exposure estimate does not underestimate exposure for any significant subpopulation group.

• Condition c: Data are available on pesticide use and food consumption in a particular area, and the exposure estimate does not understate exposure for the population in such area.

In addition, the Agency must provide for periodic evaluation of any estimates used. To provide for the periodic evaluation of the estimate of PCT as required by FFDCA section 408(b)(2)(F), EPA may require registrants to submit data on PCT.

The following average PCT estimates were used in the chronic dietary risk assessment for the following crops that are currently registered for flonicamid: celery, 65%; potatoes, 15%; spinach, 20%; and strawberries, 55%.

In most cases, EPA uses available data from United States Department of Agriculture/National Agricultural Statistics Service (USDA/NASS), proprietary market surveys, and California Department of Pesticide Regulation (CalDPR) Pesticide Use Reporting (PUR) for the chemical/crop combination for the most recent 10 years. EPA uses an average PCT for chronic dietary risk analysis and a maximum PCT for acute dietary risk analysis. The average PCT figure for each existing use is derived by combining available public and private market survey data for that use, averaging across all observations, and rounding to the nearest 5%, except for those situations in which the average PCT is less than 1% or less than 2.5%. In those cases, the Agency would use 1% or 2.5% as the average PCT value, respectively. The maximum PCT figure is the highest observed maximum value reported within the most recent 10 years of available public and private market survey data for the existing use and rounded up to the nearest multiple of 5%, except where the maximum PCT is less than 2.5%, in which case, the Agency uses 2.5% as the maximum PCT.

The Agency believes that Conditions a, b, and c discussed above have been met. With respect to Condition a, PCT estimates are derived from Federal and private market survey data, which are reliable and have a valid basis. The Agency is reasonably certain that the percentage of the food treated is not likely to be an underestimation. As to Conditions b and c, regional consumption information and consumption information for significant subpopulations is taken into account through EPA's computer-based model for evaluating the exposure of significant subpopulations including several regional groups. Use of this consumption information in EPA's risk assessment process ensures that EPA's exposure estimate does not understate exposure for any significant subpopulation group and allows the Agency to be reasonably certain that no regional population is exposed to residue levels higher than those estimated by the Agency. Other than the data available through national food consumption surveys, EPA does not have available reliable information on the regional consumption of food to which flonicamid may be applied in a particular area.

Drinking water and non-occupational exposures. The estimated drinking water concentrations have not changed since the 2018 rulemaking. For a detailed summary of the drinking water analysis for flonicamid used for the human health risk assessment, see Unit III.C.2. of the flonicamid tolerance rulemaking published in the Federal Register of July 23, 2018 (83 FR 34775) (FRL-9977-82).

There are no proposed residential uses at this time; however, there are existing residential uses that have been previously assessed using current data and assumptions. The residential uses for flonicamid include residential handler application to roses, flowers, shrubs, and small (non-fruit bearing) ornamental trees. Residential handler exposure is expected to be short-term in duration. Intermediate-term exposures are not likely because of the intermittent nature of applications by homeowners. Since no hazard was identified for the dermal route of exposure, dermal risks were not assessed, but the Agency did assess risks to residential handlers from inhalation exposure.

Residential post-application dermal and inhalation exposures for adults and children entering an environment previously treated with flonicamid are also possible; incidental oral exposures are not expected with the registered use patterns. Since no hazard was identified for the dermal route of exposure, dermal risks were not assessed. Outdoor post-application inhalation exposures are considered negligible. Therefore, residential post-application scenarios were not assessed at this time.

The recommended residential exposure for use in the adult aggregate assessment is inhalation exposure from applications to roses, flowers, shrubs, and small (non-fruit bearing) ornamental trees via backpack spray equipment.

Cumulative exposure. Section 408(b)(2)(D)(v) of FFDCA requires that, when considering whether to establish, modify, or revoke a tolerance, the Agency consider “available information” concerning the cumulative effects of a particular pesticide's residues and “other substances that have a common mechanism of toxicity.” Unlike other pesticides for which EPA has followed a cumulative risk approach based on a common mechanism of toxicity, EPA has not made a common mechanism of toxicity finding as to flonicamid and any other substances and flonicamid does not appear to produce a toxic metabolite produced by other substances. For the purposes of this action, therefore, EPA has not assumed that flonicamid has a common mechanism of toxicity with other substances.

Safety factor for infants and children. EPA concludes that there are reliable data to support the reduction of the Food Quality Protection Act (FQPA) safety factor from 10X to 1X.

The toxicity database is adequate for FQPA safety factor evaluation and the quantification of risk for dietary, non-occupational and occupational exposure scenarios. The acceptable studies available for evaluation of neurotoxicity and susceptibility include prenatal developmental toxicity studies in rats and rabbits; a reproduction and fertility effects study in rats; an acute neurotoxicity study in rats; and a subchronic neurotoxicity study in rats.

The current database includes acute and subchronic neurotoxicity studies. The clinical effects seen in these studies, while suggestive of an adverse effect on nervous tissue and/or function, occurred in the presence of other effects. In the acute study, the increase in mortality along with impaired respiration (seen only at the highest dose level of 1,000 mg/kg) suggest the animals were in an extreme condition. In the subchronic study, food consumption and body weight measurements suggest the animals were otherwise compromised and in a state of general malaise. Also, these types of clinical effects were not observed in the other subchronic or chronic studies in mice, rats or dogs. Thus, there is not clear evidence of neurotoxicity. Lastly, clear NOAELs and LOAELs were defined for these effects, which are above the levels currently used for risk assessment purposes. The current risk assessment is protective of these clinical effects, and a developmental neurotoxicity study is not required.

There was no evidence of increased susceptibility following pre-/post-natal exposure in prenatal developmental toxicity studies or the reproduction and fertility effects study.

The exposure databases are complete or are estimated based on data that reasonably account for potential exposures. The chronic dietary food exposure assessment was slightly refined based on PCT assumptions and conservative ground water drinking water modeling estimates. All of the exposure estimates are based on conservative assumptions and, the Agency is confident the risk is not under-estimated in these assessments.

Aggregate risks and determination of safety. EPA determines whether acute and chronic dietary pesticide exposures are safe by comparing dietary (food and drinking water) exposure estimates to the acute population-adjusted dose (aPAD) and chronic population-adjusted dose (cPAD). Short- and intermediate-term risks are evaluated by comparing the estimated total food, water, and residential exposure to the appropriate points of departure to ensure that an adequate margin of exposure (MOE) exists.

No adverse effect resulting from a single oral exposure was identified and no acute dietary endpoint was selected. Therefore, flonicamid is not expected to pose an acute risk. Chronic dietary risks are below the Agency's level of concern of 100% of the cPAD; they are 97% of the cPAD for children 1 to 2 years old, the group with the highest exposure.

For short-term aggregate risk, adult residential handler exposure estimates are aggregated with adult dietary exposure estimates, which are considered background. The estimated aggregate MOE for adult handlers is 1,100 and is not of concern because it is higher than the level of concern of 100.

A cancer dietary assessment was not conducted as flonicamid has been determined to be “suggestive evidence of carcinogenicity, but not sufficient to assess human carcinogenicity potential.” The Agency has determined that quantification of risk using a non-linear approach (i.e., using a chronic reference dose) adequately accounts for all chronic toxicity, including carcinogenicity that could result from exposure to flonicamid. As stated above, the chronic risks are not of concern.

Therefore, based on the risk assessments and information described above, EPA concludes there is a reasonable certainty that no harm will result to the general population, or to infants and children, from aggregate exposure to flonicamid residues. More detailed information on this action can be found in the Flonicamid Human Health Review in docket ID EPA-HQ-OPP-2022-0832 and “Flonicamid: Human Health Draft Risk Assessment for Registration Review” in docket ID EPA-HQ-OPP-2014-0777.

IV. Other Considerations

A. Analytical Enforcement Methodology

For a discussion of the available analytical enforcement method, see Unit IV.A. of the July 23, 2018, rulemaking.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4).

The tolerance expression for plant and livestock commodities is not harmonized with Codex. Codex residues of concern are expressed as flonicamid only. There are no Codex established MRLs for bushberry subgroup 13-07B, caneberry subgroup 13-07A, sweet corn, pomegranate, or prickly pear. There are established Codex MRLs for nectarine and peach. The U.S. tolerance of 1.5 ppm being established for the peach subgroup is higher than the Codex MRLs of 0.7 ppm. Harmonization is not possible because decreasing the tolerance to harmonize would put U.S. growers at risk of violative residues despite legal use of the pesticide according to the label.

With respect to crop groups 6-22A-F, the U.S. tolerances and Codex MRLs are not harmonized. Most commodities have no established Codex MRL or the established Codex MRL is lower than the U.S. tolerances. Therefore, harmonization is not possible because decreasing the tolerance to harmonize would put U.S. growers at risk of violative residues despite legal use of the pesticide according to the label.

V. Conclusion

Therefore, tolerances are established for residues of flonicamid in or on Bushberry subgroup 13-07B at 1.5 ppm; Caneberry subgroup 13-07A at 3 ppm; Cherry subgroup 12-12A at 0.6 ppm; Corn, sweet, forage at 9 ppm; Corn, sweet, kernel plus cob with husks removed at 0.4 ppm; Corn, sweet, stover at 20 ppm; Peach subgroup 12-12B at 1.5 ppm; Plum subgroup 12-12C at 0.6 ppm; Pomegranate at 0.5 ppm; Prickly pear, fruit at 2 ppm; Prickly pear, pads at 3 ppm; Vegetable, legume, bean, edible podded, subgroup 6-22A at 4 ppm; Vegetable, legume, bean, succulent shelled, subgroup 6-22C at 7 ppm; Vegetable, legume, pea, edible podded, subgroup 6-22B at 4 ppm; Vegetable, legume, pea, succulent shelled, subgroup 6-22D at 7 ppm; Vegetable, legume, pulse, bean, dried shelled, except soybean, subgroup 6-22E at 3 ppm; and Vegetable, legume, pulse, pea, dried shelled, subgroup 6-22F at 3 ppm.

Additionally, the following existing tolerances are removed as unnecessary: Fruit, stone, group 12-12; Pea and bean, dried shelled, except soybean, subgroup 6C; Pea and bean, succulent shelled, subgroup 6B; and Vegetable, legume, edible podded, subgroup 6A.

VI. Statutory and Executive Order Reviews

This establishes tolerances under FFDCA section 408(d) in response to a petition submitted to the Agency. The Office of Management and Budget (OMB) has exempted these types of actions from review under Executive Order 12866, entitled “Regulatory Planning and Review” (58 FR 51735, October 4, 1993). Because this action has been exempted from review under Executive Order 12866, this action is not subject to Executive Order 13211, entitled “Actions Concerning Regulations That Significantly Affect Energy Supply, Distribution, or Use” (66 FR 28355, May 22, 2001), or to Executive Order 13045, entitled “Protection of Children from Environmental Health Risks and Safety Risks” (62 FR 19885, April 23, 1997). This action does not contain any information collections subject to OMB approval under the Paperwork Reduction Act (PRA) (44 U.S.C. 3501 et seq.), nor does it require any special considerations under Executive Order 12898, entitled “Federal Actions to Address Environmental Justice in Minority Populations and Low-Income Populations” (59 FR 7629, February 16, 1994).

Since tolerances and exemptions that are established on the basis of a petition under FFDCA section 408(d), such as the tolerances in this final rule, do not require the issuance of a proposed rule, the requirements of the Regulatory Flexibility Act (RFA) (5 U.S.C. 601 et seq.), do not apply.

This action directly regulates growers, food processors, food handlers, and food retailers, not States or Tribes, nor does this action alter the relationships or distribution of power and responsibilities established by Congress in the preemption provisions of FFDCA section 408(n)(4). As such, the Agency has determined that this action will not have a substantial direct effect on States or Tribal Governments, on the relationship between the National Government and the States or Tribal Governments, or on the distribution of power and responsibilities among the various levels of government or between the Federal Government and Indian Tribes. Thus, the Agency has determined that Executive Order 13132, entitled “Federalism” (64 FR 43255, August 10, 1999) and Executive Order 13175, entitled “Consultation and Coordination with Indian Tribal Governments” (65 FR 67249, November 9, 2000) do not apply to this action. In addition, this action does not impose any enforceable duty or contain any unfunded mandate as described under Title II of the Unfunded Mandates Reform Act (UMRA) (2 U.S.C. 1501 et seq.).

This action does not involve any technical standards that would require Agency consideration of voluntary consensus standards pursuant to section 12(d) of the National Technology Transfer and Advancement Act (NTTAA) (15 U.S.C. 272 note).

VII. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides, and pests, Reporting and recordkeeping requirements.

Dated: September 7, 2023.
Charles Smith,
Director, Registration Division, Office of Pesticide Programs.

Therefore, for the reasons stated in the preamble, EPA is amending 40 CFR chapter 1 as follows:

PART 180—TOLERANCES AND EXEMPTIONS FOR PESTICIDE CHEMICAL RESIDUES IN FOOD

1. The authority citation for part 180 continues to read as follows:

Authority: 21 U.S.C. 321(q), 346a and 371.

2. In § 180.613, amend table 1 to paragraph (a)(1) by:

i. Adding in alphabetical order entries for “Bushberry subgroup 13-07B”; “Caneberry subgroup 13-07A”; “Cherry subgroup 12-12A”; “Corn, sweet, forage”; “Corn, sweet, kernel plus cob with husks removed”; and “Corn, sweet, stover”.

ii. Removing the entries for “Fruit, stone, group 12-12”; “Pea and bean, dried shelled, except soybean, subgroup 6C” and “Pea and bean, succulent shelled, subgroup 6B”.

iii. Adding in alphabetical order entries for “Peach subgroup 12-12B”; “Plum subgroup 12-12C”; “Pomegranate”; “Prickly pear, fruit”; and “Prickly pear, pads”; “Vegetable, legume, bean, edible podded, subgroup 6-22A”; and “Vegetable, legume, bean, succulent shelled, subgroup 6-22C”.

iv. Removing the entry for “Vegetable, legume, edible podded, subgroup 6A”.

v. Adding in alphabetical order entries for “Vegetable, legume, pea, edible podded subgroup 6-22B”; “Vegetable, legume, pea, succulent shelled, subgroup 6-22D”; “Vegetable, legume, pulse, bean, dried shelled, except soybean, subgroup 6-22E”; and “Vegetable, legume, pulse, pea, dried shelled, subgroup 6-22F”.

The additions read as follows:

§ 180.613 Flonicamid; tolerances for residues.

(a) * * *

(1) * * *

Table 1 to Paragraph (a)(1)
Commodity | Parts per million
* * * * * * *
Bushberry subgroup 13-07B | 1.5
Caneberry subgroup 13-07A | 3
* * * * * * *
Cherry subgroup 12-12A | 0.6
Corn, sweet, forage | 9
Corn, sweet, kernel plus cob with husks removed | 0.4
Corn, sweet, stover | 20
* * * * * * *
Peach subgroup 12-12B | 1.5
* * * * * * *
Plum subgroup 12-12C | 0.6
Pomegranate | 0.5
* * * * * * *
Prickly pear, fruit | 2
Prickly pear, pads | 3
* * * * * * *
Vegetable, legume, bean, edible podded, subgroup 6-22A | 4
Vegetable, legume, bean, succulent shelled, subgroup 6-22C | 7
Vegetable, legume, pea, edible podded, subgroup 6-22B | 4
Vegetable, legume, pea, succulent shelled, subgroup 6-22D | 7
Vegetable, legume, pulse, bean, dried shelled, except soybean, subgroup 6-22E | 3
Vegetable, legume, pulse, pea, dried shelled, subgroup 6-22F | 3
* * * * * * *

* * * * *

[FR Doc. 2023-20273 Filed 9-19-23; 8:45 am]

BILLING CODE 6560-50-P